DEPARTMENT OF DEFENSE

Office of the Secretary

Base Closure and Realignment

AGENCY: Department of Defense, Office of Economic Adjustment.

ACTION: Notice.

SUMMARY: This Notice is provided pursuant to section 2905(b)(7)(B)(ii) of the Defense Base Closure and Realignment Act of 1990. It provides a partial list of military installations closing or realignment pursuant to the 2005 Defense Base Closure and Realignment (BRAC) Report. It also provides a corresponding listing of the Local Redeveloping Authorities (LRAs) recognized by the Secretary of Defense, acting through the Department of Defense Office of Economic Adjustment (OEA), as well as the points of contact, addresses, and telephone numbers for the LRAs for those installations. Representatives of State and local governments, homeless providers, and other parties interested in the redevelopment of an installation should contact the person or organization listed. The following information will also be published simultaneously in a newspaper of general circulation in the area of each installation. There will be additional Notices providing this same information about LRAs for other closing or realigning installations where surplus government property is available as those LRAs are recognized by the OEA.

DATES: Effective Date: May 23, 2006.

FOR FURTHER INFORMATION CONTACT: Director, Office of Economic Adjustment, Office of the Secretary of Defense, 400 Army Navy Drive, Suite 200, Arlington, VA 22202-4704, (703) 604-6020.

Local Redevelopment Authorities (LRAs) for Closing and Realigning Military Installations

Arkansas

Installation Name: Hot Springs USARC.

LRA Name: City of Hot Springs Local Redevelopment Authority.

Point of Contact: Kent A. Myers, City Manager, City of Hot Springs.

Address: P.O. Box 700, 133 Convention Boulevard, Hot Springs, AR 71902.

Phone: (501) 321-6810.

California

Installation Name: Schroeder Hall USARC.

LRA Name: City of Long Beach.

Point of Contact: Amy J. Beck, Project Development Bureau Manager, City of Long Beach.

Address: 333 W. Ocean Boulevard, 3rd Floor, Long Beach, CA 90802.

Phone: (562) 570-6479.

Iowa

Installation Name: Burlington Memorial USARC.

LRA Name: Des Moines County Local Redevelopment Authority.

Point of Contact: Timothy Hoschek, Supervisor, Des Moines County Board of Supervisors.

Address: Des Moines County Courthouse, 513 North Main, Burlington, IA 52601.

Phone: (319) 753-8282.

Louisiana

Installation Name: Naval Support Activity New Orleans.

LRA Name: City of New Orleans.

Point of Contact: Don J. Hutchinson, Executive Assistant to the Major, Mayor's Office of Economic Development, City of New Orleans.

Address: 1515 Poydras Street, Suite 1150, New Orleans, LA 70112.

Phone: (504) 658-9810.

Texas

Installation Name: Marshall USARC.

LRA Name: City of Marshall.

Point of Contact: Ed Smith, Chairman, Marshall City Commission.

Address: P.O. Box 698, Marshall, TX 75672.

Phone: (903) 935-4421.

Dated: MAy 24, 2006.
L.M. Bynum,
OSD Federal Register Liaison Officer, Department of Defense.

[FR Doc. 06-4970 Filed 5-30-06; 8:45 am]

BILLING CODE 5001-06-M